DEPARTMENT OF HEALTH AND HUMAN SERVICES

Food and Drug Administration

Veterinary Medicine Advisory Committee; Notice of Meeting

AGENCY: Food and Drug Administration, HHS.

ACTION: Notice.

This notice announces a forthcoming meeting of a public advisory committee of the Food and Drug Administration (FDA). The meeting will be open to the public.

Name of Committee: Veterinary Medicine Advisory Committee.

General Function of the Committee: To provide advice and recommendations to the agency on FDA's regulatory issues.

Date and Time: The meeting will be held on October 13, 2004, from 8:30 a.m. to 5 p.m.

Location: DoubleTree Hotel, Plaza III, 1750 Rockville Pike, Rockville, MD.

Contact Person: Aleta Sindelar, Center for Veterinary Medicine (HFV-3), Food and Drug Administration, 7519 Standish Pl., Rockville, MD 20855, 301-827-4515, e-mail: asindela@cvm.fda.gov, or FDA Advisory Committee Information Line, 1-800-741-8138 (301-443-0572 in the Washington, DC area), code 3014512548, for up-to-date information on this meeting.

Agenda: The committee will discuss and make recommendations on the microbial food safety of an antimicrobial drug application currently under review for use in food-producing animals in accordance with the Center for Veterinary Medicine's guidance for industry #152.

The background material for this meeting will be posted on the Internet no later than 1 business day before the meeting at http://www.fda.gov/cvm/default.html. A limited number of paper copies of the background information will be available at the registration table.

Procedure: Interested persons may present data, information, or views, orally or in writing, on issues pending before the committee. Written submissions may be made to the contact person by October 1, 2004. Oral presentations from the public will be scheduled between approximately 10:45 a.m. and 11:45 a.m. Time allotted for each presentation may be limited. Those desiring to make formal oral presentations should notify the contact person by October 1, 2004, and submit a brief statement of the general nature of the evidence or arguments they wish to present, the names and addresses of proposed participants, and an indication of the approximate time requested to make their presentation.

Persons attending FDA's advisory committee meetings are advised that the agency is not responsible for providing access to electrical outlets.

FDA welcomes the attendance of the public at its advisory committee meetings and will make every effort to accommodate persons with physical disabilities or special needs. If you require special accommodations due to a disability, please contact Aleta Sindelar at least 7 days in advance of the meeting.

Notice of this meeting is given under the Federal Advisory Committee Act (5 U.S.C. app. 2).

Dated: August 24, 2004.
Lester M. Crawford,
Acting Commissioner for Food and Drugs.

[FR Doc. 04-19779 Filed 8-30-04; 8:45 am]

BILLING CODE 4160-01-S